DEPARTMENT OF ENERGY

Federal Energy Regulatory Commisssion

[Docket No. RP97-288-005]

Transwestern Pipeline Company; Notice of Proposed Changes in FERC Gas Tariff

Correction

In notice document 00-30351 appearing on page 71102 in the issue of Wednesday, November 29, 2000, the docket number is corrected to read as set forth above.

[FR Doc. C0-30351 Filed 12-7-00; 8:45 am]

BILLING CODE 1505-01-D

INTERNATIONAL TRADE COMMISSION

[Investigations Nos. AA1921-197 (Review), 701-TA-231, 319-320, 322, 325-328, 340, 342, and 348-350 (Review), and 731-TA-573-576, 578, 582-587, 604, 607-608, 612, and 614-618 (Review)]

Certain Carbon Steel Products From Australia, Belgium, Brazil, Canada, Finland, France, Germany, Japan, Korea, Mexico, Netherlands, Poland, Romania, Spain, Sweden, Taiwan, and United Kingdom

Correction

In notice document 00-30673 appearing on page 75301 in the issue of Friday, December 1, 2000, make the following correction:

In the second column, in the second table, the heading “Corrosion resistant” should read “Cold-rolled”

[FR Doc. C0-30673 Filed 12-7-00; 8:45 am]

BILLING CODE 1505-01-D

DEPARTMENT OF JUSTICE

Immigration and Naturalization Service

[INS No. 2090-00; AG Order No. 2336-2000]

RIN 1115-AE 26

Extension of Designation of Somalia Under Temporary Protected Status Program

Correction

In notice document 00-29546 beginning on page 69789 in the issue of Monday, November 20, 2000, make the following corrections:

1. On page 69789, in the third column, in the SUMMARY , in the fourth line, “September 17, 2001” should read “September 18, 2000”.

2. On the same page, in the same column, under the same heading, in the seventh line, “September 17, 2000” should read “September 17, 2001”.

[FR Doc. C0-29546 Filed 12-7-00; 8:45 am]

BILLING CODE 1505-01-D

SECURITIES AND EXCHANGE COMMISSION

[Release No.34-43526 File No. SR-PCX-00-35]

Self-Regulatory Organizations; Notice of Filing and Immediate Effectiveness of Proposed Rule Change and Amendment No.1 to the Proposed Rule Change by the Pacific Exchange, Inc., Relating to Equity Housekeeping Amendments

Correction

In notice document 00-29181 beginning on page 69109 in the issue of Wednesday, November 15, 2000, make the following correction:

On page 69110, in the first column, in the fifth full paragraph “3. PCXE Rule 5-Listings ” should read “ e. PCXE Rule 5-Listings ”.

[FR Doc. C0-29181 Filed 12-7-00; 8:45 am]

BILLING CODE 1505-01-D